DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2017

AGENCY: Office of the Secretary, USDA.

ACTION: Semiannual regulatory agenda.

SUMMARY: This agenda provides summary descriptions of significant and not significant regulations being developed in agencies of the U.S. Department of Agriculture (USDA) in conformance with Executive Orders (EO) 13771 “Enforcing the Regulatory Reform Agenda,” 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with EO 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: April 6, 2017.
Michael Poe,
Legislative and Regulatory Staff.

Agricultural Marketing Service—Proposed Rule Stage
Sequence No. | Title | Regulation Identifier No.
1 | NOP; Organic Livestock and Poultry Practices Second Proposed Rule | 0581-AD74

Agricultural Marketing Service—Final Rule Stage
Sequence No. | Title | Regulation Identifier No.
2 | NOP; Organic Livestock and Poultry Practices | 0581-AD44
3 | Sunset 2017 Amendments to the National List | 0581-AD52
4 | Organic Research, Promotion, and Information Order/Referendum Procedures | 0581-AD55

Agricultural Marketing Service—Completed Actions
Sequence No. | Title | Regulation Identifier No.
5 | Amendment to Compost Standards for Organic Production | 0581-AD53

Animal and Plant Health Inspection Service—Final Rule Stage
Sequence No. | Title | Regulation Identifier No.
6 | Establishing a Performance Standard for Authorizing the Importation and Interstate Movement of Fruits and Vegetables | 0579-AD71

Animal and Plant Health Inspection Service—Completed Actions
Sequence No. | Title | Regulation Identifier No.
7 | Animal Welfare; Regulations and Standards for Birds | 0579-AC02
8 | Treatment of Firewood and Spruce Logs Imported From Canada | 0579-AD60
9 | Agricultural Bioterrorism Protection Act of 2002; Biennial Review and Republication of the Select Agent and Toxin List | 0579-AE08
10 | Importation of Lemons From Northwest Argentina | 0579-AE17

Grain Inspection, Packers and Stockyards Administration—Proposed Rule Stage
Sequence No. | Title | Regulation Identifier No.
11 | Scope of Sections 202(a) and (b) of the Packers and Stockyards Act | 0580-AB28

Food and Nutrition Service—Completed Actions
Sequence No. | Title | Regulation Identifier No.
12 | National School Lunch and School Breakfast Programs: Nutrition Standards for All Foods Sold in School, as Required by the Healthy, Hunger-Free Kids Act of 2010 | 0584-AE09

Food Safety and Inspection Service—Final Rule Stage
Sequence No. | Title | Regulation Identifier No.
13 | Elimination of Trichina Control Regulations and Consolidation of Thermally Processed, Commercially Sterile Regulations | 0583-AD59

Forest Service—Completed Actions
Sequence No. | Title | Regulation Identifier No.
14 | Management of Surface Activities Associated With Outstanding Mineral Rights on National Forest System Lands (Directive) | 0596-AD03

Office of Procurement and Property Management—Completed Actions
Sequence No. | Title | Regulation Identifier No.
15 | Designation of Biobased Product Categories for Federal Procurement, Round 11 | 0599-AA24
16 | Designation of Biobased Product Categories for Federal Procurement, Round 12 | 0599-AA25

DEPARTMENT OF AGRICULTURE (USDA)

Agricultural Marketing Service (AMS)

Proposed Rule Stage

1. • NOP; Organic Livestock and Poultry Practices Second Proposed Rule

Legal Authority: 7 U.S.C. 6501 to 6522

Abstract: This action would describe and solicit public comments on options for the disposition of the final rule, Organic Livestock and Poultry Practices. The final rule, published on January 19, 2017, adds provisions to the USDA organic regulations to address and clarify livestock and poultry living conditions, health care practices, and animal handling and transport, and during slaughter. The final rule was originally scheduled to become effective on March 20, 2017; the effective date was subsequently delayed to May 19, 2017. AMS published a notice further delaying the effective date to November 14, 2017.

Timetable:

Action | Date | FR Cite
NPRM | 05/10/17 | 82 FR 21742
NPRM Comment Period End | 06/09/17

Regulatory Flexibility Analysis Required: Yes.

Agency Contact: Miles V McEvoy, Deputy Administrator, USDA National Organic Program, Department of Agriculture, Agricultural Marketing Service, 1400 Independence Avenue SW., Washington, DC 20250, Phone: 202 720-3252.

RIN: 0581-AD74

DEPARTMENT OF AGRICULTURE (USDA)

Agricultural Marketing Service (AMS)

Final Rule Stage

2. NOP; Organic Livestock and Poultry Practices

Legal Authority: 7 U.S.C. 6501 to 6522

Abstract: This action would establish standards that support additional practice standards for organic livestock and poultry production. This action would add provisions to the USDA organic regulations to address and clarify livestock and poultry living conditions (for example, outdoor access, housing environment and stocking densities), health care practices (for example physical alterations, administering medical treatment, euthanasia), and animal handling and transport to and during slaughter.

Timetable:

Action | Date | FR Cite
NPRM | 04/13/16 | 81 FR 21955
Comment Period Extended | 06/08/16 | 81 FR 36810
NPRM Comment Period End | 07/13/16
Final Rule | 01/19/17 | 82 FR 7042
Final Rule Effective | 11/14/17

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD44

3. Sunset 2017 Amendments to the National List

Legal Authority: 7 U.S.C. 6501 to 6522

Abstract: This proposed rule would address 11 2017 sunset review recommendations submitted to the Secretary by the National Organic Standards Board (NOSB) following their October, 2015 meeting. This rule proposes the removal of three synthetic substances and eight non organic, agricultural substances from the National List of Allowed and Prohibited Substances (National List). These substances are currently allowed for various uses in organic crop and livestock production and organic handling. Upon removal from the National List, use of these substances in organic production or handling would be prohibited. The prohibitions would take effect on the sunset date of June 27, 2017, following publication of a final rule.

Timetable:

Action | Date | FR Cite
NPRM | 01/18/17 | 82 FR 5431
Final Rule | 08/00/17

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD52

4. Organic Research, Promotion, and Information Order/Referendum Procedures

Legal Authority: 7 U.S.C. 7411 to 7425; 7 U.S.C. 7401

Abstract: This action invites comments on a proposed national research and promotion (R&P) program that would cover the range of organic products that are certified and sold per the Organic Foods Production Act and its implementing regulations as well as organic products imported into the U.S. under an organic equivalency arrangement. The proposed program would be financed by an assessment on domestic producers and handlers, as well as importers of organic products.

Timetable:

Action | Date | FR Cite
NPRM | 01/18/17 | 82 FR 5438
Comment Period End | 03/20/17
Final Rule | 09/00/17

Regulatory Flexibility Analysis Required: Yes.

Agency Contact: Heather Pichelman, Director, Promotion and Economics, Specialty Crops Program, Department of Agriculture, Agricultural Marketing Service, 1400 Independence Avenue, Washington, DC 20250, Phone: 202 720-9915.

RIN: 0581-AD55

DEPARTMENT OF AGRICULTURE (USDA)

Agricultural Marketing Service (AMS)

Completed Actions

5. Amendment to Compost Standards for Organic Production

Legal Authority: Pub. L. 109-97

Abstract: This rulemaking action provides clarification on the prohibition of certain compost products in organic production systems under the USDA organic regulations. This rule change will codify into regulations the policies outlined in NOP Guidance 5016: Allowance of Green Waste in Organic Production Systems.

Completed:

Reason | Date | FR cite
Withdrawn | 06/28/17

Regulatory Flexibility Analysis Required: Yes.

Agency Contact: Miles V. McEvoy, Phone: 202 720-3252.

RIN: 0581-AD53

BILLING CODE 3410-02-P

DEPARTMENT OF AGRICULTURE (USDA)

Animal and Plant Health Inspection Service (APHIS)

Final Rule Stage

6. Establishing a Performance Standard for Authorizing the Importation and Interstate Movement of Fruits and Vegetables

Legal Authority: 7 U.S.C. 450; 7 U.S.C. 7701 to 7772; 7 U.S.C. 7781 to 7786; 21 U.S.C. 136 and 136(a)

Abstract: This rulemaking will amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the Internet. It also will remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This action will allow for the consideration of requests to authorize the importation or interstate movement of new fruits and vegetables in a manner that enables a more flexible and responsive regulatory approach to evolving pest situations in both the United States and exporting countries. It will not, however, alter the science-based process in which the risk associated with importation or interstate movement of a given fruit or vegetable is evaluated or the manner in which risks associated with the importation or interstate movement of a fruit or vegetable are mitigated.

Timetable:

Action | Date | FR cite
NPRM | 09/09/14 | 79 FR 53346
NPRM Comment Period End | 11/10/14
NPRM Comment Period Reopened | 12/04/14 | 79 FR 71973
NPRM Comment Period End | 01/09/15
NPRM Comment Period Reopened | 02/06/15 | 80 FR 6665
NPRM Comment Period End | 03/10/15
Final Rule | 12/00/17

Regulatory Flexibility Analysis Required: Yes.

Agency Contact: Nicole Russo, Assistant Director, Regulatory Coordination and Compliance, PPQ, Department of Agriculture, Animal and Plant Health Inspection Service, 4700 River Road, Unit 133, Riverdale, MD 20737-1236, Phone: 301 851-2159.

RIN: 0579-AD71

DEPARTMENT OF AGRICULTURE (USDA)

Animal and Plant Health Inspection Service (APHIS)

Completed Actions

7. Animal Welfare; Regulations and Standards for Birds

Legal Authority: 7 U.S.C. 2131 to 2159

Abstract: APHIS intends to establish standards for the humane handling, care, treatment, and transportation of birds other than birds bred for use in research.

Completed:

Reason | Date | FR cite
Withdrawn | 06/28/17

Regulatory Flexibility Analysis Required: Yes.

Agency Contact: Johanna Briscoe, Phone: 301 851-3751.

RIN: 0579-AC02

8. Treatment of Firewood and Spruce Logs Imported From Canada

Legal Authority: 7 U.S.C. 450; 7 U.S.C. 7701 to 7772; 7 U.S.C. 7781 to 7786; 21 U.S.C. 136 and 136a

Abstract: This rulemaking will amend the regulations regarding firewood of all species imported from Canada, including treated lumber (furniture scraps) sold as kindling, and all spruce logs imported from Nova Scotia.

Completed:

Reason | Date | FR cite
Withdrawn | 06/28/17

Regulatory Flexibility Analysis Required: Yes.

Agency Contact: John Tyrone Jones, Phone: 301 851-2344.

RIN: 0579-AD60

9. Agricultural Bioterrorism Protection Act of 2002; Biennial Review and Republication of the Select Agent and Toxin List

Legal Authority: 7 U.S.C. 8401

Abstract: In accordance with the Agricultural Bioterrorism Protection Act of 2002, we are amending and republishing the list of select agents and toxins that have the potential to pose a severe threat to animal or plant health, or to animal or plant products. The Act requires the biennial review and republication of the list of select agents and toxins and the revision of the list as necessary. This action amends the regulations in several ways, including the addition of provisions to address the inactivation of select agents, provisions addressing biocontainment and biosafety, and clarification of regulatory language concerning security, training, incident response, and records. These changes increase the usability of the select agent regulations as well as provide for enhanced program oversight. After carefully considering the technical input of subject matter experts and recommendations from Federal advisory groups, we have decided not to finalize the proposed changes to the contents of the list of select agents and toxins at this time. In a companion document published in this issue of the Federal Register, the Centers for Disease Control and Prevention has made parallel regulatory changes.

Completed:

Reason | Date | FR Cite
Final Rule | 01/19/17 | 82 FR 6197
Final Rule Effective | 03/21/17
Final Rule; Delay of Effective Date | 02/16/17 | 82 FR 10855

Regulatory Flexibility Analysis Required: Yes.

Agency Contact: Freeda Isaac, Phone: 301 851-3300.

RIN: 0579-AE08

10. • Importation of Lemons From Northwest Argentina

Legal Authority: 7 U.S.C. 450; 7 U.S.C. 7701 to 7772; 7 U.S.C. 7781 to 7786; 21 U.S.C. 136 and 136a

Abstract: This rulemaking amends the fruits and vegetables regulations to allow the importation of lemons from northwest Argentina into the continental United States. As a condition of entry, lemons from northwest Argentina would have to be produced in accordance with a systems approach that includes requirements for importation in commercial consignments; registration and monitoring of places of production and packinghouses; pest-free places of production; grove sanitation, monitoring, and pest control practices; treatment with a surface disinfectant; lot identification; and inspection for quarantine pests by the Argentine national plant protection organization. Additionally, lemons from northwest Argentina will have to be harvested green and within a certain time period, or treated for Mediterranean fruit fly in accordance with an approved treatment schedule. Lemons from northwest Argentina will also be required to be accompanied by a phytosanitary certificate with an additional declaration stating that the lemons have been inspected and found to be free of quarantine pests and were produced in accordance with the requirements. This action allows for the importation of lemons from northwest Argentina into the United States while continuing to provide protection against the introduction of quarantine pests.

Timetable:

Action | Date | FR Cite
NPRM | 05/10/16 | 81 FR 28758
NPRM Comment Period End | 07/11/16
NPRM Comment Period Extended | 07/11/16 | 81 FR 44801
NPRM Comment Period Extended End | 08/10/16
Final Rule | 12/23/16 | 81 FR 94217
Final Rule Effective | 03/27/17
Final Rule; Stay of Regulations | 01/25/17 | 82 FR 8353
Final Rule; Stay of Regulation | 03/24/17 | 82 FR 14987
Final Rule Effective | 05/26/17

Regulatory Flexibility Analysis Required: Yes.

Agency Contact: Tony Román, Senior Regulatory Policy Specialist, PPQ, Department of Agriculture, Animal and Plant Health Inspection Service, 4700 River Road, Unit 133, Riverdale, MD 20737-1231, Phone: 301 851-2242.

RIN: 0579-AE17

BILLING CODE 3410-34-P

DEPARTMENT OF AGRICULTURE (USDA)

Grain Inspection, Packers and Stockyards Administration (GIPSA)

Proposed Rule Stage

11. • Scope of Sections 202(A) and (B) of the Packers and Stockyards Act

Legal Authority: Pub. L. 110-246; 7 U.S.C. 181 to 229c

Abstract: On December 20, 2016, the Grain Inspection, Packers and Stockyards Administration (GIPSA) published an interim final rule on the subject matter that was set to become effective on February 21, 2017. Consistent with the memorandum of January 20, 2017, to the heads of executive departments and agencies from the Assistant to the President and Chief of Staff entitled “Regulatory Freeze Pending Review,” GIPSA published a notice in the Federal Register that extended the comment period of the interim final rule until March 24, 2017, and delayed its effective date until April 22, 2017. GIPSA is now seeking additional comments through a new proposed rule on possible actions the Department may take that will result in delayed full implementation of the rule. Concurrent with publication of this proposed rule, GIPSA published a notice delaying the effective date of the interim final rule for an additional 180 days, until October 19, 2017.

Timetable:

Action | Date | FR Cite
NPRM | 04/12/17 | 82 FR 17594
NPRM Comment Period End | 06/12/17

Regulatory Flexibility Analysis Required: Yes.

Agency Contact: Raymond Dexter Thomas II, Lead Regulatory Analyst, Department of Agriculture, Grain Inspection, Packers and Stockyards Administration, 1400 Independence Avenue SW., Room 2530-South, Washington, DC 20250, Phone: 202 720-6529, Fax: 202 690-2173, Email: r.dexter.thomas@usda.gov.

RIN: 0580-AB28

BILLING CODE 3410-EN-P

DEPARTMENT OF AGRICULTURE (USDA)

Food and Nutrition Service (FNS)

Completed Actions

12. National School Lunch and School Breakfast Programs: Nutrition Standards for All Foods Sold in School, as Required by the Healthy, Hunger-Free Kids Act of 2010

Legal Authority: Pub. L. 111-296

Abstract: This rule codifies a provision of the Healthy, Hunger-Free Kids Act (Pub. L. 111-296; the Act) under 7 CFR parts 210 and 220. Section 208 requires the Secretary to promulgate regulations to establish science-based nutrition standards for all foods sold in schools. The nutrition standards apply to all food sold outside the school meal programs, on the school campus, and at any time during the school day.

Completed:

Reason | Date | FR Cite
Final & Interim Final Rule | 07/29/16 | 81 FR 50131
Final Rule Effective | 09/27/16

Regulatory Flexibility Analysis Required: Yes.

Agency Contact: Charles H. Watford, Phone: 703 605-0800, Email: charles.watford@fns.usda.gov. Lynnette M. Thomas, Phone: 703 605-4782, Email: lynnette.thomas@fns.usda.gov.

RIN: 0584-AE09

BILLING CODE 3410-30-P

DEPARTMENT OF AGRICULTURE (USDA)

Food Safety and Inspection Service (FSIS)

Final Rule Stage

13. Elimination of Trichina Control Regulations and Consolidation of Thermally Processed, Commercially Sterile Regulations

Legal Authority: Federal Meat Inspection Act (FMIA); Poultry Products Inspection Act (PPIA)

Abstract: The Food Safety and Inspection Service (FSIS) proposed to amend the Federal meat inspection regulations to eliminate the requirements for both ready-to-eat (RTE) and not-ready-to-eat (NRTE) pork and pork products to be treated to destroy trichina (Trichinella spiralis) because the regulations are inconsistent with the Hazard Analysis and Critical Control Point (HACCP) regulations, and these prescriptive regulations are no longer necessary. If this supplemental proposed rule is finalized, FSIS will end its Trichinella Approved Laboratory Program (TALP program) for the evaluation and approval of non-Federal laboratories that use the pooled sample digestion technique to analyze samples for the presence of trichina. FSIS also proposed to consolidate the regulations on thermally processed, commercially sterile meat and poultry products (i.e., canned food products containing meat or poultry).

Timetable:

Action | Date | FR Cite
NPRM | 03/28/16 | 81 FR 17337
NPRM Comment Period End | 06/27/16
Final Rule | 09/00/17

Regulatory Flexibility Analysis Required: Yes.

Agency Contact: Matthew Michael, Director, Issuances Staff, Department of Agriculture, Food Safety and Inspection Service, Office of Policy and Program Development, 1400 Independence Avenue SW., Washington, DC 20250-3700, Phone: 202 720-0345, Fax: 202 690-0486, Email: matthew.michael@fsis.usda.gov.

RIN: 0583-AD59

BILLING CODE 3410-DM-P

DEPARTMENT OF AGRICULTURE (USDA)

Forest Service (FS)

Completed Actions

14. Management of Surface Activities Associated With Outstanding Mineral Rights on National Forest System Lands (Directive)

Legal Authority: EPA 1992

Abstract: Close to 11,000,000 acres (approximately 6 percent) of National Forest System (NFS) lands overlie severed (split) mineral estates owned by a party other than the Federal Government. More than 75 percent of these lands are in the Eastern Region (Forest Service Regions 8 and 9). There are two kinds of severed mineral estates, generally known as “private rights”: Reserved and outstanding. Reserved mineral rights are those retained by a grantor in a deed conveying land to the United States. Outstanding mineral rights are those owned by a party other than the surface owner at the time the surface was conveyed to the United States. Because these are non-Federal mineral interests, the U.S. Department of the Interior's Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently, there are no formal regulations governing the use of NFS lands for activities associated with the exercise of outstanding mineral rights underlying those lands. The Energy Policy Act of 1992, section 2508, directed the Secretary of Agriculture to apply specified terms and conditions to surface-disturbing activities related to development of oil and gas on certain lands with outstanding mineral rights on the Allegheny National Forest, and promulgate regulations implementing that section.

The Forest Service initiated rulemaking for the use of NFS lands for development activities associated with both reserved and outstanding mineral rights with an Advance Notice of Proposed Rulemaking (ANPRM) in the Federal Register on December 29, 2008. Comments from the public in response to the ANPRM conveyed a high level of concern about the broad scope of the rule, along with a high level of concern about effects of a broad rule on small businesses and local economies.

Completed:

Reason | Date | FR Cite
Withdrawn | 06/23/17

Regulatory Flexibility Analysis Required: Yes.

Agency Contact: Tinathan A. Lewis, Phone: 202 205-3773, Email: talewis@fs.fed.us.

RIN: 0596-AD03

BILLING CODE 3410-11-P

DEPARTMENT OF AGRICULTURE (USDA)

Office of Procurement and Property Management (OPPM)

Completed Actions

15. Designation of Biobased Product Categories for Federal Procurement, Round 11

Legal Authority: Pub. L. 113-79

Abstract: This proposed rule will designate, for preferred procurement under the Federal Biobased Products Preferred Procurement Program, approximately 10 intermediate ingredient or feedstock product categories. An intermediate ingredient or feedstock is defined by the BioPreferred Program as a material or compound made in whole or in significant part from biological products. Typical intermediate ingredient or feedstock product categories will include renewable chemicals; plastic resins; chemical binders; oils, fats, and waxes; and fibers and fabrics.

Completed:

Reason | Date | FR Cite
NPRM | 01/13/17 | 82 FR 4206
Withdrawn | 06/28/17

Regulatory Flexibility Analysis Required: Yes.

Agency Contact: Marie Wheat, Phone: 202 239-4502, Email: marie.wheat@dm.usda.gov.

RIN: 0599-AA24

16. Designation of Biobased Product Categories for Federal Procurement, Round 12

Legal Authority: Pub. L. 113-79

Abstract: This proposed rule will designate, for preferred procurement under the Federal Biobased Products Preferred Procurement Program, approximately eight complex assembly product categories. A complex assembly is defined by the BioPreferred program as a system of distinct materials and components assembled to create a finished product with specific functional intent where some or all of the system inputs contain some amount of biobased material or feedstock. Typical complex assembly product categories will include products such as upholstered office chairs and other office furniture; mattresses; backpacks; boots; and other camping gear. The specific product categories to be included in this rulemaking are under investigation by the Office of Procurement and Property Management, but technical information is expected to be available to support the designation of about eight product categories.

Completed:

Reason | Date | FR Cite
Withdrawn | 06/28/17

Regulatory Flexibility Analysis Required: Yes.

Agency Contact: Marie Wheat, Phone: 202 239-4502, Email: marie.wheat@dm.usda.gov.

RIN: 0599-AA25

[FR Doc. 2017-16886 Filed 8-23-17; 8:45 am]

BILLING CODE 3410-98-P